DEPARTMENT OF THE INTERIOR

Fish and Wildlife Service

[FWS-R4-ES-2017-N020; FXES111604C0000-178-FF04E00000]

Proposed Programmatic Candidate Conservation Agreement With Assurances for the Louisiana Pinesnake in Louisiana

AGENCY: Fish and Wildlife Service, Interior.

ACTION: Notice.

SUMMARY: We, the U.S. Fish and Wildlife Service, have received an application from the Louisiana Department of Wildlife and Fisheries for an enhancement of survival permit (permit) pursuant to the Endangered Species Act of 1973. The permit application includes a proposed programmatic candidate conservation agreement with assurances (CCAA) for the Louisiana pinesnake. The term of the agreement would be 99 years. If approved, the CCAA would allow the applicant to enter into conservation management agreements with eligible non-Federal landowners throughout Bienville, Beauregard, Jackson, Natchitoches, Rapides, Sabine, Vernon, Winn, Grant, and Allen Parishes, Louisiana, and to issue certificates of inclusion to enrollees. We invite public comments on these documents.

DATES: We must receive any written comments at our Regional Office (see ADDRESSES) on or before July 31, 2017.

ADDRESSES: To request further information, review documents, or submit written comments, please use the following methods and specify that your information request or comments are in reference to the “Programmatic CCAA for the Louisiana Pinesnake.”

• Internet: Documents may be viewed and downloaded on the Internet at http://www.fws.gov/southeast/candidaetconservation/examples.html.

• Email: michael_harris@fws.gov. Include “Programmatic CCAA for the Louisiana Pinesnake” in the subject line. Please include your name and return address in your message. If you do not receive a confirmation from us that we have received your message, contact us directly at either telephone number listed under FOR FURTHER INFORMATION CONTACT.

• U.S. Mail: Mr. Michael Harris, At-Risk Species Coordinator, Fish and Wildlife Service, Southeast Regional Office, 1875 Century Boulevard, Atlanta, GA 30345, or Mr. Joseph Ranson, Field Supervisor, Fish and Wildlife Service, Louisiana Ecological Services Field Office, 646 Cajundome Boulevard, Suite 400, Lafayette, LA 70506.

• In-Person Drop-off, Viewing, or Pickup: Call 404-679-7066 to make an appointment (necessary for viewing or pick-up only) during regular business hours at the Fish and Wildlife Service's Regional Office, 1875 Century Boulevard, Suite 200, Atlanta, GA 30345; or call 337-291-3112 to make an appointment at the Louisiana Ecological Services Field Office, Fish and Wildlife Service, 646 Cajundome Boulevard, Suite 400, Lafayette, LA 70506. Written comments can be dropped off during regular business hours at either address on or before the closing date of the public comment period (see DATES). Requests for any documents must be in writing.

FOR FURTHER INFORMATION CONTACT: Mr. Michael Harris, At-Risk Species Coordinator, at the Regional Office (see ADDRESSES), telephone: 404-679-7066; or Mr. David Castellanos, Imperiled Species Biologist, at the Louisiana Field Office (see ADDRESSES), telephone: 337-291-3112.

SUPPLEMENTARY INFORMATION: We have received an application from the Louisiana Department of Wildlife and Fisheries for an enhancement of survival permit (permit) pursuant to the Endangered Species Act of 1973 (Act). The permit application includes a proposed programmatic candidate conservation agreement with assurances (CCAA) for the Louisiana pinesnake (Pituophis ruthveni). The term of the CCAA would be 99 years. If approved, the CCAA would allow the applicant to enter into conservation management agreements with eligible non-Federal landowners throughout Bienville, Beauregard, Jackson, Natchitoches, Rapides, Sabine, Vernon, Winn, Grant, and Allen Parishes, Louisiana, and to issue certificates of inclusion to enrollees. We invite public comments on these documents.

Candidate Conservation Agreements With Assurances

Under a CCAA, participating property owners voluntarily undertake management activities on their properties to enhance, restore, or maintain habitat benefiting species that may warrant listing under the Act. CCAAs encourage private and other non-Federal property owners to implement conservation efforts for candidate and at-risk species by assuring them that they will not be subjected to increased property use restrictions should the species become listed as “threatened” or “endangered” under the Act in the future. Application requirements and issuance criteria for CCAAs are found in 50 CFR 17.22(d) and 17.32(d).

Parties' Agreement

The CCAA describes conservation measures designed to protect and enhance habitat for the benefit of the Louisiana pinesnake (covered species) on private or non-Federal public lands enrolled under the agreement. Enrolled landowners who implement these measures would receive assurances against take liability if the covered species were to be federally listed in the future. Conservation land use practices would vary according to the needs of a particular enrolled landowner. Typical measures include the use of prescribed fire, thinning of forests, and restoration of open-canopied pine (including longleaf pine). The CCAA also contemplates that other conservation measures may be developed in the future.

We specifically request information, views, and opinions from the public via this notice on our proposed Federal action, including our determination that the CCAA, including its proposed conservation measures, would have minor or negligible effects on the covered species. Therefore, we have determined that the incidental take permit for this project is “low effect” and qualifies for categorical exclusion under the National Environmental Policy Act (NEPA), as provided by 43 CFR 46.205 and 43 CFR 46.210. A low-effect project involves (1) minor or negligible effects on federally listed or candidate species or their habitats, and (2) minor or negligible effects on other environmental values or resources. Further, we specifically solicit information regarding the adequacy of the CCAA per 50 CFR parts 13 and 17.

Public Comments

Before including your address, phone number, email address, or other personal identifying information in your comment, you should be aware that your entire comment—including your personal identifying information—may be made publicly available at any time. While you can ask us in your comment to withhold your personal identifying information from public review, we cannot guarantee that we will be able to do so.

Covered Area

The CCAA covers eligible lands in Bienville, Beauregard, Jackson, Natchitoches, Rapides, Sabine, Vernon, Winn, Grant, and Allen Parishes, Louisiana.

Next Steps

We will evaluate the application for enhancement of survival permit through candidate conservation agreement with assurances, including the CCAA, and any comments we receive to determine whether the application meets the requirements of section 10(a)(1)(A) of the Act and of applicable implementing regulations. We will also evaluate whether the section 10(a)(1)(A) enhancement of survival permit would comply with section 7 of the Act by conducting an intra-Service section 7 consultation. If we determine that the requirements are met, we will issue a permit under section 10(a)(1)(A) of the Act to the applicant in accordance with the applicable regulatory requirements. We will not make our final decision until after the end of the 30-day comment period and will fully consider all comments received during the comment period.

Authority

We provide this notice under section 10 of the Act (16 U.S.C. 1531 et seq.) and NEPA regulations (40 CFR 1506.6).

Dated: June 23, 2017.
Luis J. Santiago,
Acting Regional Director.

[FR Doc. 2017-13760 Filed 6-29-17; 8:45 am]

BILLING CODE 4333-15-P